DEPARTMENT OF ENERGY

Federal Energy Regulatory Commission

[Docket Nos. EC06-41-000, et al.]

Aragonne Wind, LLC, et al.; Electric Rate and Corporate Filings

April 4, 2006.

The following filings have been made with the Commission. The filings are listed in ascending order within each docket classification.

1. Aragonne Wind LLC

[Docket No. EG06-41-000]

Take notice that on March 29, 2006, Aragonne Wind LLC filed with the Commission a Notice of Self Certification of Exempt Wholesale Generator Status pursuant to section 366.7 of the Commission's regulations.

Comment Date: 5 p.m. Eastern Time on April 19, 2006.

2. Central Hudson Gas & Electric Corporation

[Docket No. EC06-104-000]

Take notice that on March 30, 2006, Central Hudson Gas & Electric Corporation filed an application for authorization, pursuant to section 203 of the Federal Power Act, to transfer jurisdictional facilities, Neversink Hydroelectric Generating Plant, to New York City pursuant to an Agreement of Conveyance dated February 28, 2006.

Comment Date: 5 p.m. Eastern Time on April 21, 2006.

3. Cadillac Renewable Energy LLC

[Docket No. ER98-4515-006]

Take notice that on January 26, 2006, Cadillac Renewable Energy LLC filed tendered for filing a letter notifying the Commission of a change in status regarding its upstream ownership.

Comment Date: 5 p.m. Eastern Time on April 14, 2006.

4. Monongahela Power Company, the Potomac Edison Company, West Penn Power Company, and Allegheny Generating Company

[Docket Nos. ES06-30-000; EC06-103-000]

Take notice that on March 28, 2006, Monongahela Power Company (Mon Power), The Potomac Edison Company (PE), West Penn Power Company (West Penn), and Allegheny Generating Company (ACG) filed a joint application under section 204 of the Federal Power Act for a disclaimer of jurisdiction under section 204(f) or, in the alternative, authorization under section 204(a) to issue short term debt in connection with the Allegheny Energy Money Pool and under section 203 of the Federal Power Act for authorization to participate in the Allegheny Energy Money Pool with affiliated public utilities.

Comment Date: 5 p.m. Eastern Time on April 18, 2006.

Standard Paragraph

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E6-5300 Filed 4-10-06; 8:45 am]

BILLING CODE 6717-01-P